DEPARTMENT OF THE INTERIOR

Bureau of Land Management

[15X 1109AF LLUTY00000 L12200000. MA0000 24 1A]

Final Supplementary Rules for Public Lands Managed by the Moab and Monticello Field Offices in Grand and San Juan Counties, UT

AGENCY: Bureau of Land Management, Interior.

ACTION: Final supplementary rules.

SUMMARY: In accordance with the Records of Decision (RODs) for the Moab and Monticello Field Office Approved Resource Management Plans (RMPs) and associated Environmental Impact Statements (EIS), the Bureau of Land Management (BLM) is finalizing supplementary rules for BLM-managed public land in Grand and San Juan Counties, Utah. These final supplementary rules apply to the operation of motorized and mechanized vehicles, camping and campfires, firewood and petrified wood collection, and the use of glass containers.

DATES: These final supplementary rules are effective on March 28, 2016.

ADDRESSES: You may direct inquiries by letter to Jeffrey Smith, Recreation Division Chief, Bureau of Land Management, Moab Field Office, 82 East Dogwood Avenue, Moab, UT 84532, or by email to blm_ut_mb_mail@blm.gov. The final supplementary rules are available for inspection at the Moab Field Office, on the Moab Field Office Web site www.blm.gov/ut/st/en/fo/moab.html, at the Monticello Field Office, on the Monticello Field Office Web site www.blm.gov/ut/st/en/fo/monticello.html.

FOR FURTHER INFORMATION CONTACT: Jeffrey Smith, Recreation Division Chief, 82 East Dogwood Avenue, Moab, UT 84532, 435-259-2100, or blm_ut_mb_mail@blm.gov. Persons who use a telecommunications device for the deaf (TDD) may call the Federal Information Relay Service (FIRS) at 1-800-877-8339 to leave a message or question with the above individual. The FIRS is available 24 hours a day, 7 days a week. You will receive a reply during normal business hours.

SUPPLEMENTARY INFORMATION:

I. Background

II. Discussion of Public Comments

III. Discussion of Final Supplementary Rules

IV. Procedural Matters

I. Background

The BLM is establishing these final supplementary rules under the authority of 43 Code of Federal Regulations (CFR) 8365.1-6, which allows state directors to establish supplementary rules for the protection of persons, property, and the public lands and resources. This provision allows the BLM to issue rules of less than national effect without codifying the rules in the CFR. These final supplementary rules apply to public lands managed by the Moab and Monticello Field Offices. Maps of the management areas and boundaries can be obtained by contacting the Moab or Monticello Field Office or by accessing Moab or Monticello Field Office Web sites (SEE ADDRESSES SECTION ABOVE). The final supplementary rules will be available for inspection at the Moab and Monticello Field Offices.

In 2008, the BLM finalized RMPs for the Moab and Monticello Field Offices. During the public planning and EIS processes, the BLM identified the need to establish supplementary rules to provide for visitor health and safety, and to protect the cultural and natural resources on the BLM-Moab and Monticello Field Office lands.

The BLM has recorded significant increases in visitation numbers and resulting pressures on recreation areas and archaeological sites in the Moab and Monticello areas. Therefore, the BLM has determined that the final rules are necessary to protect visitor health and safety, prevent natural and cultural resource degradation, and promote high-quality outdoor recreation opportunities. Some of the final rules apply to the entire field office areas, while others apply only to specific geographic areas experiencing the most intense visitation pressures. The geographic applicability of each rule is addressed in sections III and V of this Notice.

The BLM took the following steps to involve the public in developing the plans, which are the basis for the final supplementary rules:

(1) The BLM held five scoping meetings for the Moab and Monticello Field Offices between October 14 and November 13, 2003, in the planning area. A formal scoping period was held between June 6, 2003, and January 31, 2004. The BLM also engaged in Tribal consultation during the planning process.

(2) The Draft RMP/EIS, which included recommendations for published closures, limitations, restrictions, and special rules, was available for a 90-day public comment period. Moab's Draft RMP/EIS was available from August 24, 2007, to November 30, 2007. Four public meetings were held on the Draft RMP beginning September 25, 2007. Monticello's Draft RMP/EIS was available for public review and comment from November 2, 2007, through February 8, 2008. Five public meetings were held on the Draft RMP in January 2008.

(3) The BLM released the Proposed RMPs and Final EISs, which included recommendations for published closures, limitations, restrictions, and special rules on August 1, 2008 (Moab), and on September 5, 2008 (Monticello), for a 30-day comment period.

(4) The BLM summarized all public comments and addressed them in the Final EISs approved on August 1, 2008 (Moab), and September 5, 2008 (Monticello).

II. Discussion of Public Comments

The BLM published proposed supplementary rules on July 18, 2014 (79 FR 42035). Twelve comment letters were received during the 90-day public comment period. Eleven of the commenters expressed support for the supplementary rules.

One comment concluded that the dispersed camping limitations applied to the entire Canyon Country District, and expressed opposition to this district-wide imposition of camping rules. Dispersed camping limitations only apply to enumerated areas as defined in the final supplementary rules.

One comment requested that language of Rule 4 (Moab Field Office) and Rule 5 (Monticello Field Office) be changed to conform to the field office's Travel Management Plans. The Travel Management Plans for the Moab and Monticello Field Offices state: “In areas limited to designated routes, only designated routes are open to motorized use.” However, the supplementary rules must describe prohibited acts and, therefore, Moab Rule 4 and Monticello Rule 5 will be clarified by adding the underlined text: “You must not operate a motorized or mechanized vehicle on any route, trail or area not designated as open to such use by a BLM sign, a BLM map or the [appropriate field office] Travel Management Plan.”

Another comment requested that the rules be changed to clarify that researchers should be able to enter archaeological sites via ropes (Monticello Rule 3). Researchers will still be able to access archaeological sites via ropes assuming they have obtained the necessary permits from either the Moab or Monticello Field Office allowing such research to be conducted.

Another comment requested that the definition of climbing aids be clarified (Monticello Rule 3). The rule language is taken directly from the Approved Monticello RMP. The definition of a climbing aid has been augmented to include the use of ladders as requested by the commenter.

Another comment requested a correction of a typographical error in Rule 5 (Monticello), which refers to the Moab, rather than the Monticello, Field Office. The typographical error has been corrected.

One comment disagreed with the proposed rule restricting campfires in Dark Canyon and White Canyon Special Recreation Management Areas (SRMAs) in their entirety. The commenter agreed with the campfire restriction in the canyons, but stated that the restriction on campfires along the rims of these canyons was overly restrictive. The language in the RMP only restricts campfires within the canyons of these SRMAs; it does not restrict campfires on the rims. The wording of the final rule has been changed to clarify the restriction and to more accurately reflect the decision in the RMP.

III. Discussion of Final Supplementary Rules

The BLM-Moab Field Office

The BLM-Moab Field Office's jurisdiction is bound by the Grand County line to the north, the Utah-Colorado state line to the east, Harts Draw and Lisbon Valley to the south, and the Green River to the west. The public lands managed by the BLM-Moab Field Office are domestic and international tourist destinations. Since 1999, annual visitation has increased by over 500,000, to 1.8 million visitors per year.

The final supplementary rules are critical to provide for public health and safety and to protect natural and cultural resources on public lands experiencing high levels of sustained and concentrated visitor use. For over 20 years supplementary rules have been in place for several specific locations with high visitor use in the BLM-Moab Field Office. See 57 FR 33005 (July 24, 1992), 58 FR 17424 (April 2, 1993), and 61 FR 60724 (Nov. 29, 1996). Those rules have been effective in providing for visitor health and safety, and protecting cultural and natural resources in the specified locations. The final rules in this notice do not replace existing rules. The final rules supplement existing rules by providing protection to additional high visitation areas and to the entire Moab Field Office area.

The final rules regarding camping, campfires, human waste, and wood gathering (Moab Rules 7, 8, 9 and 10) cover areas that receive an estimated 90 percent of the 1.8 million visitors to the Moab Field Office. The restrictions are directly related to the degradation of natural resources, health and safety issues posed by the presence of human waste, and the overuse of undeveloped camping areas where no facilities exist to mitigate visitor impacts.

All of the locations listed for camping restrictions were also specifically listed in the 2008 Moab RMP/EIS. In the majority of the areas affected by camping restrictions, the BLM offers existing campgrounds with toilet facilities and trash disposal, thus ensuring the public's ability to camp on these BLM lands. Public lands that do not receive intense visitation and are not listed in this notice and the 2008 RMP/EIS will not be affected by the final camping rules.

The reasoning for each rule is addressed below.

1. Final rule: You must not burn wood pallets.

Wood pallets are the wood frames typically used in shipping operations. Burning wood pallets is hazardous to visitors, BLM personnel, wildlife, and livestock because they contain nails that remain behind after the pallets are burned. These nails can cause physical injury to people and animals, and property damage to vehicles. By prohibiting the burning of wood pallets, the BLM will be better able to ensure the safety of people and animals, and to minimize the risk of property damage. This rule applies to all lands managed by the Moab Field Office because the hazards are the same regardless of where the pallets are burned.

2. Final rule: You must not camp in archaeological sites posted as closed to camping.

Camping activities destroy fragile archaeological resources and cause irreparable damage. Although visitors may not intentionally harm archaeological sites when they camp, several activities associated with camping may cause inadvertent damage. For example, campfires can destroy and/or contaminate the archaeological record, which is important to our scientific and historical understanding of archaeological resources. Also, inadvertent trampling from foot traffic and the use of camping shelters causes movement of artifacts and site features. Camping in archaeological sites also increases the risk of illegal artifact collection. Finally, food preparation often results in food scraps being left behind on the ground, and this attracts animals that dig in and damage the site. This rule applies throughout the Moab Field Office because of the high density of archaeological sites across the entire region. The definition of archaeological site is found in the “Definitions” section.

3. Final rule: You must not camp in historic sites posted as closed to camping.

Once these rules are finalized, historic sites that are important to the historical record and local and national heritage will be posted as closed to camping. Sites that are included or eligible for inclusion in the National Register of Historic Places are covered under this rule. Camping activities in these areas can destroy fragile historical resources and may cause irreparable damage. Although visitors may not intentionally harm historical sites when they camp, several activities associated with camping cause inadvertent damage. For example, campfires can destroy and/or contaminate the historical record, which is important to our understanding of historical resources. Also, inadvertent trampling from foot traffic and the use of camping shelters causes movement of structures and site features.

4. Final rule: You must not operate a motorized or mechanized vehicle on any route, trail or area not designated as open to such use by a BLM sign, a BLM map, or the Moab Field Office Travel Management Plan.

Mechanized and motorized travel across sensitive desert landscapes and off of established routes can damage scenic, cultural, soil, vegetation, and wildlife habitat resources. The final rule limits these modes of travel to designated routes in order to prevent the degradation of the public land resources that draw people to the area. The proliferation of user-created routes also contributes to confusion among visitors as to their location and this has contributed to an increased demand on search and rescue resources. This rule applies to all lands managed by the Moab Field Office because the resources at risk of damage from vehicles are present across the entire region.

5. Final rule: You must not gather petrified wood.

In the Moab area, there are two BLM SRMAs where petrified wood can be found exposed on the ground. These two SRMAs experience heavy visitation and, as a result, petrified wood often is collected and removed from the public lands. In order to preserve this resource for future public viewing, the collection of petrified wood is prohibited. This potential restriction was analyzed in the 2008 Moab RMP/EIS. The two SRMAs that are affected by this rule are the Colorado Riverway SRMA, and the high visitation areas within Labyrinth Rim/Gemini Bridges SRMA.

6. Final rule: You must not possess or use glass beverage containers.

The potential for broken glass arising from the possession or use of glass beverage containers presents a health and safety hazard to visitors, especially in areas where children and adults are likely to go barefoot. This final rule applies only to two specific areas that the BLM has determined poses the greatest health and safety risks: The Sand Hill area near the entrance of Arches National Park, where visitors can be harmed by broken glass hidden in the sand; and the Powerhouse/Mill Creek area, a rare swimming hole near the city of Moab, where visitors can be harmed by broken glass in the stream bed. Broken glass has been a problem at these two locations and this rule will help safeguard the public. The geographic descriptions of these locations are listed in the “Final Supplementary Rules.

7. Final rule: You must not camp at a non-designated site.

This final rule applies only to specific geographic areas where dispersed camping is degrading natural, visual, and wildlife resources, and/or causing risks to human health. The affected areas, which are enumerated in the Final Supplementary Rules section, reflect the recreation management decision (REC-6) in the 2008 Moab RMP to limit dispersed camping as visitation impacts and environmental conditions warrant. By regulating campsites along scenic highways and byways, the BLM will be better able to preserve the view shed for those travelling along the roads. Also, dispersed camping is negatively affecting crucial Desert Bighorn Sheep lambing areas shown in Map 9 of the Moab RMP. In addition, the presence of campers without the benefit of toilet facilities devalues adjacent private property and poses a health threat to domestic water wells in Spanish Valley and Castle Valley. All the geographic locations affected by this final rule are listed in the Final Supplementary Rules.

8. Final rule: You must not ignite or maintain a campfire at a non-designated site.

Campfires made without a metal fire ring create an increased risk of wildfire, and resulting damage to natural and cultural resources and harm to public health and safety. In addition, non-designated campfire rings, ashes, and associated garbage that are often left behind at campfire sites have a negative visual impact on the area. Finally, the presence of non-designated campfire rings encourages repeated illegal camping. The areas affected by this rule receive the most intense visitation and so the risks posed by campfires are amplified in these areas. All the geographic locations affected by this final rule are enumerated in the Final Supplementary Rules.

9. Final rule: You must not dispose of human waste in any container other than a portable toilet.

Exposure to human waste is a health risk to the public and BLM personnel. The continuous deposition of human waste on or just beneath the surface of the ground—which is largely sand and bare rock in the Moab region—is a risk that is not naturally mitigated. In high visitation areas, the risk of exposure to human waste is amplified. This risk may be mitigated by limiting the methods of disposal. This rule applies to the enumerated areas because they experience the highest levels of visitation and, in the case of the Areas of Critical Environmental Concern and Desert Bighorn Sheep lambing areas, the lands are especially sensitive to human impacts. All geographic locations affected by this final rule are listed in the Final Supplementary Rules.

10. Final rule: You must not gather wood.

Wood gathering depletes an already limited supply of wood that is not readily replaced in the desert environment. The areas to which this rule applies are at a great risk of resource damage and depletion due to high visitation. In order to ensure that future visitors can enjoy the visual resources, and the sensitive desert ecology is protected, wood gathering in the enumerated areas is prohibited. All geographic locations affected by this final rule are listed in the Final Supplementary Rules.

The BLM-Monticello Field Office

The BLM-Monticello Field Office's jurisdiction is bound by Harts Draw and Lisbon Valley to the north, the Utah-Colorado state line to the east, the Navajo Indian Reservation and Utah-Arizona state line to the south, and Canyonlands National Park and the Glen Canyon National Recreation Area to the west. A number of archaeological and historical resources are located on the public lands throughout the BLM-Monticello Field Office.

The BLM-Monticello Field Office's final supplementary rules are integral to protecting natural and cultural resources. The office currently enforces supplementary rules that have been effective in protecting resources in the Indian Creek area. See 63 FR 110 (Jan. 2, 1998). The final rules in this notice do not replace existing rules. The final rules supplement existing rules and provide protection to archaeological sites. Each of the final rules was analyzed in the 2008 Monticello RMP and accompanying EIS.

The reasoning for each rule is addressed below.

1. Final rule: You must not camp in archaeological sites posted as closed to camping.

Camping activities destroy fragile archaeological resources and cause irreparable damage. Although visitors may not intentionally harm archaeological sites when they camp, several activities associated with camping cause inadvertent damage. For example, campfires can destroy and/or contaminate the archaeological record, which is important to our scientific and historical understanding of cultural resources. Also, inadvertent trampling from foot traffic and camping shelters causes movement of artifacts and site features. Camping in sites also increases the risk of illegal artifact collection. Finally, food preparation often results in food scraps being left behind on the ground and this attracts animals that dig in and damage the site. This rule applies throughout the Monticello Field Office because of the high density of archaeological sites across the entire region. The definition of archaeological site is found in the “Definitions” section.

2. Final rule: You must not enter archaeological sites posted as closed to the public.

Individual archaeological sites are closed on a case-by-case basis due to degradation from increased visitation. Closing these sites to the general public protects them for future generations and our national heritage, and also ensures the integrity of the site for further scientific study. These sites may still be enjoyed from outside the barriers but due to the degradation and their fragile nature, further public visitation within the barriers would cause irreparable damage. This rule applies throughout the Monticello Field Office because of the high density of archaeological sites across the entire region. A definition of archaeological site is in the “Definitions” section of the Final Supplementary Rules.

3. Final rule: You must not use ropes or other climbing aids to access archaeological sites.

The use of ropes or other climbing aids to access archaeological sites can cause irreparable damage and it increases visitation and resulting degradation to otherwise rare and inaccessible sites. Ropes and climbing aids cause damage because climbers put them in direct contact with fragile features such as prehistoric walls and towers. For example, ropes rub against walls as climbers go up and over sites, and climbing aids such as bolts and other protection pieces cause direct damage to the rock where they are placed. Also, the use of climbing aids in general increases human contact with fragile sites and artifacts. Many otherwise inaccessible sites still retain cultural integrity and important scientific information, and the use of ropes and climbing aids to access these sites may destroy what little remains of the cultural heritage and valuable knowledge of the past. This rule applies throughout the Monticello Field Office because of the high density of archaeological sites across the entire region. A definition of archaeological site is in the “Definitions” section of the Final Supplementary Rules.

4. Final rule: You must not bring domestic pets or pack animals to archaeological sites posted as closed to the public.

Pets and pack animals cause damage to archaeological sites when they paw, dig in, defecate on, and trample fragile structures and artifacts. In order to promote the integrity and longevity of these sites, pets and pack animals are prohibited. This rule applies throughout the Monticello Field Office because of the high density of archaeological sites across the entire region. A definition of archaeological site is in the “Definitions” section of the Final Supplementary Rules.

5. Final rule: You must not operate a motorized or mechanized vehicle on any route, trail, or area not designated as open to such use by a BLM sign, a BLM map or the Monticello Field Office Travel Management Plan.

Similar to the Moab area, mechanized and motorized travel across sensitive desert landscapes and off of established routes in the Monticello area damages scenic, cultural, soil, vegetation, and wildlife habitat resources. The final rule limits these modes of travel to designated routes in order to prevent the degradation of the public land resources that draw people to area. The proliferation of user-created routes also contributes to confusion among visitors as to their location on the ground, and has contributed to more frequent search and rescue activity. This rule applies throughout the Monticello Field Office because the resources at risk of damage from vehicles are present across the entire region.

6. Final rule: You must not ignite or maintain a campfire within the canyons of the Dark Canyon Special Recreation Management Area or White Canyon Special Recreation Management Area.

Campfires are prohibited within the canyons of the Dark Canyon SRMA because of the canyons' high density of archaeological resources. Prohibiting campfires will reduce the risk of starting wildfires, which can cause extensive damage to those resources. Also, by prohibiting campfires within the canyons, the BLM will reduce the risk that visitors will remove ancient wood from archaeological sites for fuel. Campfires also are prohibited in the canyon in the White Canyon SRMA because it is a narrow slot canyon in which burning poses significant health and safety risks. In addition, the logjams that people rely on to navigate the canyon are targeted for firewood. By prohibiting campfires within the canyons of these SRMAs, the likelihood of wildfires will be greatly reduced, thereby providing greater protection of human safety, wildlife, livestock, public land resources, and private property.

Other Revisions

The BLM has made the following changes to the rules as proposed:

• The BLM has removed the proposed definition of off-highway vehicles because that term is not used in any of the substantive proposed or final supplementary rules.

• The BLM has revised Moab Rule 2 and Monticello Rule 1, both of which prohibit camping in archaeological sites, by adding the phrase, “posted as closed to camping.” The public is not aware of every archaeological site. This revision discloses how the BLM will promote public awareness of the sites that are subject to the supplementary rule.

• The BLM has revised Moab Rule 4 and Monticello Rule 5, both of which prohibit operation of vehicles in locations not designated as open, by revising the description of such locations to read “not designated as open by a BLM sign, a BLM map, or the [Moab or Monticello] Field Office Travel Management Plan.” These revisions disclose the multiple ways that the BLM will promote public awareness of travel designations.

• The BLM has revised Monticello Rule 3, which prohibits using ropes or other climbing aids to access archaeological sites, by adding the phrase, “unless operating under a permit.” This modification allows for researchers to obtain a permit to enter archaeological sites using climbing aids.

• The BLM has revised Monticello Rule 4, which prohibits bringing pets or pack animals to archaeological sites, by adding the phrase, “posted as closed to the public.” The public is not aware of every archaeological site. This revision discloses how the BLM will promote public awareness of the sites that are subject to the supplementary rule.

• The BLM has removed the proposed “Penalties” provision and has replaced it with an “Enforcement” provision that is in accordance with recent BLM policy.

• The BLM has revised the “Exemptions” provision to read as a complete sentence, to add a statement that these rules are not intended to affect any valid existing rights, and to delete a statement pertaining to penalties. These revisions are intended to improve the clarity of the “Exemptions” provision.

IV. Procedural Matters

Executive Order 12866, Regulatory Planning and Review

These final supplementary rules are not significant regulatory actions and are not subject to review by the Office of Management and Budget under Executive Order 12866. These final supplementary rules will not have an annual effect of $100 million or more on the economy. They will not adversely affect in a material way the economy, productivity, competition, jobs, the environment, public health or safety, or State, local, or Tribal governments or communities. These final supplementary rules will not create a serious inconsistency or otherwise interfere with an action taken or planned by another agency. The final supplementary rules will not materially alter the budgetary effects of entitlements, grants, user fees, or loan programs or the rights or obligations of their recipients; nor does it raise novel legal or policy issues. These supplementary rules merely establish rules of conduct for public use on a limited area of public lands.

National Environmental Policy Act

These final supplementary rules are consistent with and necessary to properly implement decisions proposed, analyzed, and approved in the 2008 Moab and Monticello Field Office RMPs, Final EISs, and RODs. They establish rules of conduct for public use of public lands managed by the Moab and Monticello Field Offices in order to protect public health and safety and protect natural and cultural resources on the public lands. The approved RMPs, EISs, and RODs are available for review at the physical and on-line locations identified in the ADDRESSES section.

These final rules are a component of a larger planning process for the Moab and Monticello Field Offices (i.e., the RMPs/RODs). In developing the RMPs/RODs, the BLM prepared two Draft and Final EISs, which include analysis of the final rules. The Draft and Final EISs, the Proposed RMPs, and the RMPs/RODs are on file and available to the public in the BLM administrative record at the address specified under ADDRESSES. The documents are also online at: http://www.blm.gov/ut/st/en/fo/moab/planning/rod_approved_rmp.html and http://www.blm.gov/ut/st/en/fo/monticello/planning/Monticello_Resource_Management_Plan.html.

Regulatory Flexibility Act

Congress enacted the Regulatory Flexibility Act (RFA) of 1980, as amended (5 U.S.C. 601-612) to ensure that Government regulations do not unnecessarily or disproportionately burden small entities. The RFA requires a regulatory flexibility analysis if a rule will have a significant economic impact, either detrimental or beneficial, on a substantial number of small entities. These final supplementary rules merely establish rules of conduct for public use on a limited area of public lands. Therefore, the BLM has determined that the final supplementary rules will not have a significant economic impact on a substantial number of small entities.

Small Business Regulatory Enforcement Fairness Act

These final supplementary rules are not “major” as defined under 5 U.S.C. 804(2). The final supplementary rules merely establish rules of conduct for public use on a limited area of public lands and will not affect commercial or business activities of any kind.

Unfunded Mandates Reform Act

These final supplementary rules will not impose an unfunded mandate on State, local, or Tribal governments in the aggregate, or the private sector of more than $100 million per year; nor will they have a significant or unique effect on small governments. The final supplementary rules will have no effect on governmental or Tribal entities and will impose no requirements on any of these entities. The final supplementary rules merely establish rules of conduct for public use on a limited selection of public lands and will not affect tribal, commercial, or business activities of any kind. Therefore, the BLM is not required to prepare a statement containing the information required by the Unfunded Mandates Reform Act (2 U.S.C. 1531 et seq.).

Executive Order 12630, Governmental Actions and Interference With Constitutionally Protected Property Rights (Takings)

These final supplementary rules do not have significant takings implications, nor are they capable of interfering with Constitutionally-protected property rights. The final supplementary rules merely establish rules of conduct for public use on a limited area of public lands and do not affect any valid existing rights. Therefore, the Department of the Interior has determined that these final supplementary rules will not cause a “taking” of private property or require preparation of a takings assessment under this Executive Order.

Executive Order 13132, Federalism

These final supplementary rules will not have a substantial direct effect on the States, the relationship between the Federal Government and the states, nor the distribution of power and responsibilities among the various levels of government. These final supplementary rules will not conflict with any State law or regulation. Therefore, in accordance with Executive Order 13132, the BLM has determined that these supplementary rules do not have sufficient Federalism implications to warrant preparation of a Federalism Assessment.

Executive Order 12988, Civil Justice Reform

Under Executive Order 12988, the Office of the Solicitor has determined that these final supplementary rules will not unduly burden the judicial system and that they meet the requirements of sections 3(a) and 3(b)(2) of the Order.

Executive Order 13175, Consultation and Coordination With Tribal Governments

In accordance with Executive Order 13175, the BLM conducted consultation and coordination with Tribal governments in the development of the RMPs, which form the basis for the final rules.

Moab

The final rules are in accordance with the issues raised in consultation with the Tribes during the RMP planning process.

As part of the RMP/EIS scoping process, by letter dated August 1, 2003, the Utah State Director initiated consultation for land use planning with 34 Tribal organizations. Between November 2003 and May 2004, all 34 Tribal organizations were contacted to determine the need for additional or future consultation for the study areas identified in the consultation letter. Meetings were arranged when requested.

In consulting with Tribes or Tribal entities, the BLM emphasized the importance of identifying historic properties having cultural significance to Tribes (commonly referred to as Traditional Cultural Properties). The BLM held meetings with 12 Tribal organizations between December 2003 and May 2004. During these meetings, Tribal organizations were invited to be a cooperating agency in the development of the land use plan. None of the Tribal organizations requested to be a cooperating agency.

In 2006 and 2007, the Moab Field Office manager and archaeologist participated in a second round of meetings with the five Tribes who so requested. At these meetings, the draft RMP/EIS alternatives were discussed with special emphasis on cultural resource issues. A copy of the Moab Draft RMP/EIS was mailed in August 2007 to 12 Tribal organizations. In April 2008, the BLM extended an invitation to meet with Tribal organizations regarding the proposed RMP/Final EIS. Two Tribes accepted this invitation.

Monticello

The final rules are in accordance with the issues raised in consultation with the Tribes during the RMP planning process.

Consultations with Native Americans on the Monticello RMP began in 2003. The Draft RMP/EIS was sent to the Tribes for review and comment on November 5, 2007. Monticello FO received comments from three tribes, the Hopi Tribe, the Navajo Nation, and the Ute Mountain Ute Tribe. Tribal concerns related to the Draft RMP/EIS were focused on the following:

1. Maintaining access for collection of plants for medicinal, spiritual, and sustenance uses.

2. Protection of the cultural resources in the Allen and Cottonwood Canyon areas, which are important to the culture and history of the White Mesa Utes.

3. Allocation of sites for scientific use.

4. Ongoing consultation on selection and allocation of sites for interpretive development, educational, public, and scientific uses.

5. Inadvertent discoveries.

The BLM provided additional clarification or modifications in developing the Proposed RMP to address these concerns. None of the Tribes filed a protest.

Energy Supply, Distribution, or Use

Under Executive Order 13211, the BLM has determined that the final supplementary rules will not comprise a significant energy action, and that they will not have an adverse effect on energy supplies, production, or consumption.

Paperwork Reduction Act

These supplementary rules do not contain information collection requirements that the Office of Management and Budget must approve under the Paperwork Reduction Act of 1995, 44 U.S.C. 3501 et seq. Federal criminal investigations or prosecutions may result from these rules, and the collection of information for these purposes is exempt from the Paperwork Reduction Act, 44 U.S.C. 3518(c)(1).

Final Supplementary Rules

Author

The principal author of these supplementary rules is Jason Moore, Supervisory Staff Law Enforcement Ranger, Canyon Country District Office, 82 East Dogwood Avenue, Moab, Utah 84532.

For the reasons stated in the preamble, and under the authorities for supplementary rules found at 43 U.S.C. 1740, 43 U.S.C. 315a, and 43 CFR 8365.1-6, the BLM Utah State Director establishes the following supplementary rules to read as follows:

Definitions

The following definitions apply to the supplementary rules of both the Moab Field Office and the Monticello Field Office.

Archaeological Site: Any site containing material remains of past human life or activities that are at least 100 years old and are of archaeological interest. Material remains include, but are not limited to: Structures or portions of structures, pit houses, rock paintings, rock carvings, intaglios, graves, surface or subsurface artifact concentrations, and the physical site, location, or context in which they are found, such as alcoves and caves.

Campfire: Any outdoor fire used for warmth or cooking.

Camping: The erecting of a tent or shelter of natural or synthetic material, preparing a sleeping bag or other bedding material for use, parking of a motor vehicle, motor home or trailer, or mooring of a vessel, for the apparent purpose of overnight occupancy while engaged in recreational activities such as hiking, hunting, fishing, bicycling, sightseeing, off-road vehicle activities, or other generally recognized forms of recreation.

Climbing Aid: Climbing aids include, but are not limited to: Bolts, anchors, ascenders, rappelling devices, webbing and cord material, cams, stoppers, ladders, and other protection devices.

Colorado Riverway Special Recreation Management Area: Public land located along the Colorado River corridor from Dewey Bridge to the boundary of Canyonlands National Park. The SRMA also includes public land along Kane Creek, in Long Canyon, and along the Dolores River. Maps of the area can be viewed at the BLM Moab Field Office.

Dark Canyon Special Recreation Management Area: The Dark Canyon SRMA includes canyon rims and bottoms for Dark Canyon, Gypsum Canyon, Bowdie Canyon, Lean To Canyon, Palmer Canyon, Lost Canyon, Black Steer Canyon, Young's Canyon, and Fable Valley Canyon. Trailheads and associated parking/camping areas at these canyons are included within the SRMA boundaries.

Historic Site: Any prehistoric or historic district, site, building, structure, or object included in, or eligible for inclusion in, the National Register of Historic Places. The term “eligible for inclusion in the National Register of Historic Places” includes both properties formally determined as such by the Secretary of the Interior and all other properties that meet National Register of Historic Places listing criteria.

Labyrinth Rims/Gemini Bridges Special Recreation Management Area: Public land located south of the Blue Hills Road, west of Arches National Park, north of the Colorado River and Canyonlands National Park, and east of the Green River. High visitation sites within this SRMA are defined as those areas listed in the approved Moab Resource Management Plan as Focus Areas (FA). These FAs consist of the following: Highway 313 Scenic Driving Corridor FA, Goldbar/Corona Arch Hiking FA, Spring Canyon Hiking FA, Labyrinth Canyon Canoe FA, Seven Mile Canyon Equestrian FA, Klondike Bluffs Mountain Biking FA, Bar M Mountain Biking FA, Tusher Slickrock Mountain Biking FA, Mill Canyon/Upper Courthouse Mountain Biking FA, Gemini Bridges/Poison Spider Mesa FA, Mineral Canyon/Horsethief Point Competitive Base Jumping FA, Bartlett Slickrock Freeride FA, Dee Pass Motorized Trail FA, Airport Hills Motocross FA, and White Wash Sand Dunes Open OHV FA. Maps of the Labyrinth Rims/Gemini Bridges SRMA and FAs can be viewed at the BLM-Moab Field Office.

Mechanized Vehicle: Any device propelled solely by human power, upon which a person, or persons, may ride on land, having any wheels, with the exception of a wheelchair.

Portable Toilet: (1) A containerized and reusable system; (2) A commercially available biodegradable system that is landfill disposable (e.g., a “WAG bag”); or (3) A toilet within a camper, trailer or motor home.

Wheelchair: Any device that is designed solely for use by a mobility-impaired person for locomotion, and that is suitable for use in an indoor pedestrian area.

White Canyon Special Recreation Management Area: The White Canyon SRMA includes canyon rims and bottoms in White Canyon as it parallels State Route 95 from Natural Bridges National Monument to Glen Canyon National Recreation Area. Trailheads and associated parking/camping areas at these canyons are included within the SRMA boundaries.

Moab Field Office

Unless otherwise authorized, on all public lands within the BLM-Moab Field Office jurisdiction:

(1) You must not burn wood pallets.

(2) You must not camp in archaeological sites posted as closed to camping.

(3) You must not camp in historic sites posted as closed to camping.

(4) You must not operate a motorized or mechanized vehicle on any route, trail, or area not designated as open to such use by a BLM sign, a BLM map, or the Moab Field Office Travel Management Plan.

The following rules apply only to the enumerated areas:

(5) You must not gather petrified wood in the following two areas:

i. The Colorado Riverway SRMA; and

ii. High visitation sites within the Labyrinth Rim/Gemini Bridges SRMA.

(6) You must not possess or use glass beverage containers in the following areas:

i. Moab Canyon Sand Hill within sections 20 and 21 of Township 25 South, Range 21 East, Salt Lake Meridian; and

ii. Powerhouse Lane Trailhead, Lower Mill Creek, and the North Fork of Mill Creek for a distance of one mile from the trailhead at Powerhouse Lane within sections 3, 4, 5, 8, 9 and 10 of Township 26 South, Range 22 East, Salt Lake Meridian.

(7) You must not camp at a non-designated site.

(8) You must not ignite or maintain a campfire at a non-designated site.

(9) You must not dispose of human waste in any container other than a portable toilet.

(10) You must not gather wood.

Rules 7, 8, 9 and 10 apply to lands within one half mile of the following roads:

i. Utah Highway 313;

ii. The Island in the Sky entrance road between Utah Highway 313 and Canyonlands;

iii. The Gemini Bridges Route (Grand County Road No. 118) and the spur route into Bride Canyon within section 24, Township 25 South, Range 20 East, Salt Lake Meridian; and

iv. The Kane Springs Creek Canyon Rim route from U.S. Highway 191 to where it first crosses the eastern boundary of section 20, Township 27 South, Range 22 East, Salt Lake Meridian, exclusive of the State and private land west of Blue Hill in sections 25, 26, 35, and 36.

Rules 7, 8, 9 and 10 also apply to the following:

v. Lands within Long Canyon (Grand County Road No. 135) coincident with a portion of the Colorado Riverway SRMA and the BLM lands within Dead Horse Point State Park.

vi. Lands along both sides of U.S. Highway 191 bounded by Arches National Park on the east, private lands in Moab Valley on the south, the Union Pacific Railroad Potash Rail Spur on the west, and private and state land near the lower Gemini Bridges Trailhead on the north.

vii. Lands located between the upper end of the Nefertiti Rapid parking area in section 1, Township 19 South, Range 16 East, Salt Lake Meridian, along the shoreline of the Green River on the east side of the river to Swaseys Take-Out in section 3, Township 20 South, Range 16 East, Salt Lake Meridian. This includes all public lands between Nefertiti and Swaseys along Grand County Road No. 154.

viii. Lands including Castle Rock, Ida Gulch, Professor Valley, Mary Jane Canyon, and the upper Onion Creek areas that are south of the Colorado Riverway SRMA, below the rims of Adobe and Fisher Mesas, and west of the private land in Fisher Valley.

ix. Lands along the Potash Trail (Grand County Road Nos. 134 and 142, between the western end of Potash Lower Colorado River Scenic Byway (Grand County Road No. 279) and Canyonlands National Park) that are east of Canyonlands National Park, south of Dead Horse Point State Park, and other state and private lands north of the Colorado River and west of the Colorado Riverway SRMA, excluding riverside campsites accessible by water craft from the Colorado River.

x. Lands located at the southern end of Spanish Valley located on the east and west sides of U.S. Highway 191 to the rim of the valley, south of the San Juan County line to the Kane Springs Creek Canyon Rim Road.

xi. Lands within the Mill Creek Canyon ACEC and the Mill Creek Canyon Wilderness Study Area (WSA). Backpack-type camping within the Mill Creek Canyon ACEC and the Mill Creek Canyon WSA is allowed at sites one-quarter mile or farther from designated roads and greater than 100 feet from Mill Creek and archaeological sites.

xii. Lands within Desert Bighorn Sheep lambing areas (46,319 acres) as shown on Map 9 of the Approved Moab RMP.

Monticello Field Office

Unless otherwise authorized, on all public lands administered by the BLM-Monticello Field Office:

(1) You must not camp in archaeological sites posted as closed to camping.

(2) You must not enter archaeological sites posted as closed to the public.

(3) You must not use ropes or other climbing aids to access archaeological sites, unless operating under a permit.

(4) You must not bring domestic pets or pack animals to archaeological sites, posted as closed to the public.

(5) You must not operate a motorized or mechanized vehicle on any route, trail, or area not designated as open to such use by a BLM sign, a BLM map, or the Monticello Field Office Travel Management Plan.

(6) You must not ignite or maintain a campfire within the canyons in the Dark Canyon SRMA or White Canyon SRMA.

Enforcement

Any person who violates any of these supplementary rules may be tried before a United States Magistrate and fined in accordance with 18 U.S.C. 3571, imprisoned no more than 12 months under 43 U.S.C. 1733(a) and 43 CFR 8360.0-7, or both. In accordance with 43 CFR 8365.1-7, State or local officials may also impose penalties for violations of Utah law.

Exemptions

Any Federal, State, local or military persons acting within the scope of their duties, and members of an organized rescue or firefighting force in performance of an official duty are exempt from these rules. These rules are not intended to affect any valid existing rights.

Approved:
Jenna Whitlock,
Acting State Director.

[FR Doc. 2016-04065 Filed 2-24-16; 8:45 am]

BILLING CODE 4310-DQ-P